Title 3—

The President

Proclamation 10987 of October 24, 2025

Regulatory Relief for Certain Stationary Sources To Promote American Mineral Security

By the President of the United States of America

A Proclamation

1. Copper is essential to America's energy, defense, and manufacturing sectors. From the electric grid to semiconductors, copper plays a critical role in supporting our modern economy. Maintaining and increasing domestic copper smelting capacity is vital to reducing reliance on foreign supply chains and ensuring American mineral security. Executive Order 14220 of February 25, 2025 (Addressing the Threat to National Security From Imports of Copper), recognized copper as a “critical material essential to the national security, economic strength, and industrial resilience of the United States,” and directed action to address the national security threat posed by excessive reliance on foreign sources by strengthening domestic capacity across the copper supply chain.

2. On May 13, 2024, the Environmental Protection Agency published a final rule, pursuant to section 112 of the Clean Air Act, 42 U.S.C. 7412, titled National Emission Standards for Hazardous Air Pollutants: Primary Copper Smelting Residual Risk and Technology Review and Primary Copper Smelting Area Source Technology Review, 89 FR 41648 (Copper Rule). The Copper Rule imposes new emissions-control requirements on primary copper smelters.

3. The Copper Rule imposes severe burdens on the few remaining domestic copper smelters by requiring compliance with new national emissions standards. These standards are premised on the use of emissions-control technologies that do not exist in a commercially demonstrated or cost-effective form. The Copper Rule sets a uniform compliance timeline at 89 FR 41657 that does not account for the unique operational and technical constraints of this legacy industrial sector. In 2024, only two primary copper smelters remained in operation across the country. Imposing these requirements on such a limited and already strained domestic industry risks accelerating further closures, weakening the Nation's industrial base, undermining mineral independence, and increasing reliance on foreign-controlled processing capacity. Preserving all domestic smelting capability is essential to ensuring access to critical minerals in times of crisis.

4. NOW, THEREFORE, I, DONALD J. TRUMP, President of the United States of America, by the authority vested in me by the Constitution and the laws of the United States, including section 112(i)(4) of the Clean Air Act, 42 U.S.C. 7412(i)(4), do hereby proclaim that certain stationary sources subject to the Copper Rule, as identified in Annex I of this proclamation, are exempt from compliance with the Copper Rule for a period of 2 years beyond the Copper Rule's relevant compliance dates (Exemption). This Exemption applies to all compliance deadlines established under the Copper Rule applicable to the stationary sources listed in Annex I, with each such deadline extended by 2 years from the date originally required for such deadline. The effect of this Exemption is that, during each such 2-year period, these stationary sources will be subject to the emissions and compliance obligations that they are currently subject to under the applicable standard as that standard existed prior to the Copper Rule. In support of this Exemption, I hereby make the following determinations:

a. The technology to implement the Copper Rule is not available. Such technology does not exist in a commercially viable form sufficient to allow implementation of and compliance with the Copper Rule by the compliance dates in the Copper Rule.

b. It is in the national security interests of the United States to issue this Exemption for the reasons stated in paragraphs 1 and 3 of this proclamation.

IN WITNESS WHEREOF, I have hereunto set my hand this twenty-fourth day of October, in the year of our Lord two thousand twenty-five, and of the Independence of the United States of America the two hundred and fiftieth.

Billing code 3395-F4-P

[FR Doc. 2025-19775

Filed 10-31-25; 11:15 am]

Billing code 3395-F4-C